INTERNATIONAL TRADE COMMISSION

[Investigation No. 337-TA-1416]

Certain Hydrodermabrasion Systems and Components Thereof II; Notice of a Commission Determination Not To Review an Initial Determination Granting Complainant's Unopposed Motion To Terminate Without Prejudice the Investigation Based Upon Withdrawal of the Complaint

AGENCY: U.S. International Trade Commission.

ACTION: Notice.

SUMMARY: Notice is hereby given that the U.S. International Trade Commission (“Commission”) has determined not to review an initial determination (“ID”) (Order No. 15) of the presiding administrative law judge (“ALJ”) granting complainant's unopposed motion to, inter alia, terminate without prejudice the investigation based upon withdrawal of the complaint.

FOR FURTHER INFORMATION CONTACT: Michael Liberman, Esq., Office of the General Counsel, U.S. International Trade Commission, 500 E Street SW, Washington, DC 20436, telephone (202) 205-3115. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on September 10, 2024, based on a complaint filed on behalf of HydraFacial LLC f/k/a Edge Systems LLC of Long Beach, California (“HydraFacial,” or “Complainant”). 89 FR 73446-47 (Sept. 10, 2024). The complaint, as supplemented, alleges violations of section 337 based upon the importation into the United States, the sale for importation, and the sale within the United States after importation of certain hydrodermabrasion systems and components thereof by reason of the infringement of claims 1-12, 14-20, 22-26, 28-37, and 39-45 of U.S. Patent No. 11,865,287 and claims 1-8 and 11-16 of U.S. Patent No. 9,550,052. The Commission's notice of investigation named as respondents Aesthetics Management Partners of Cordova, Tennessee (“AMP”); Sinclair Pharma U.S. Inc. of Irvine, California and Sinclair Pharma Limited of London, United Kingdom (collectively, “Sinclair”); EMA Aesthetics, Ltd. of Dublin, Ireland; (“EMA”); and Huadong Medicine Co., Ltd. of Hangzhou, Zhejiang, China (“HMC,” and with AMP, Sinclair, EMA, and HMC, collectively, “Respondents”). The Office of Unfair Import Investigations is not a party in this investigation.

On September 26, 2024, the ALJ issued an initial determination (Order No. 5) setting the target date in this investigation for April 10, 2026, with the initial determination on violation due no later than December 10, 2025. On October 2, 2024, HydraFacial filed a petition for review of Order No. 5. On October 9, 2024, Respondents filed an opposition to HydraFacial's petition (“Opposition”).¹

¹ Respondents noted that respondents H.R. Meditech and Advanced Aesthetics Services LLC did not appear in this investigation and did not participate in Respondents' Opposition. See Respondents' Opposition at 1 n. 1.

On October 28, 2024, the Commission issued a notice of its determination not to review Order No. 5. See also Commission Determination to Deny Complainant's Petition for Reconsideration of the Commission's Decision Not to Review an Initial Determination Setting a Target Date (Nov. 21, 2024).

On February 18, 2025, complainant HydraFacial filed an unopposed motion to, inter alia, terminate this investigation based on withdrawal of the complaint (“Motion”). Mot. at 1.

Complainant certifies that it conferred with Respondents with respect to this Motion. Id. Complainant reports that Respondents do not oppose the Motion and waived the two-business day requirement. Id.

On February 19, 2025, the ALJ issued the subject ID. The ID granted the Motion for good cause shown and because no party to this investigation opposes. ID at 2.

No petitions for review were filed. The Commission has determined not to review the ID.

The Commission vote for this determination took place on March 11, 2025.

The authority for the Commission's determination is contained in section 337 of the Tariff Act of 1930, as amended (19 U.S.C. 1337), and in Part 210 of the Commission's Rules of Practice and Procedure (19 CFR part 210).

By order of the Commission.
Issued: March 12, 2025.
Lisa Barton,
Secretary to the Commission.

[FR Doc. 2025-04317 Filed 3-17-25; 8:45 am]

BILLING CODE 7020-02-P